INTERNATIONAL TRADE COMMISSION

[Investigation No. 337-TA-1182]

Certain Argon Plasma Coagulation System Probes, Their Components, and Other Argon Plasma Coagulation System Components for Use Therewith Commission Determination Not To Review an Initial Determination Terminating the Investigation as to Certain Respondents and Granting Leave To Amend the Complaint and Notice of Investigation

AGENCY: U.S. International Trade Commission.

ACTION: Notice.

SUMMARY: Notice is hereby given that the U.S. International Trade Commission (“Commission”) has determined not to review an initial determination (“ID”) of the presiding administrative law judge (“ALJ”) terminating this investigation as to certain respondents and granting leave to amend the complaint and notice of investigation to add a respondent.

FOR FURTHER INFORMATION CONTACT: Ron Traud, Office of the General Counsel, U.S. International Trade Commission, 500 E Street SW, Washington, DC 20436, telephone 202-205-3427. Copies of non-confidential documents filed in connection with this investigation are or will be available for inspection during official business hours (8:45 a.m. to 5:15 p.m.) in the Office of the Secretary, U.S. International Trade Commission, 500 E Street SW, Washington, DC 20436, telephone 202-205-2000. General information concerning the Commission may also be obtained by accessing its internet server at https://www.usitc.gov. The public record for this investigation may be viewed on the Commission's electronic docket (“EDIS”) at https://edis.usitc.gov. Hearing-impaired persons are advised that information on this matter can be obtained by contacting the Commission's TDD terminal, telephone 202-205-1810.

SUPPLEMENTARY INFORMATION: On November 8, 2019, the Commission instituted this investigation based on a complaint filed by Erbe Elektromedizin GmbH of the Republic of Germany and Erbe USA, Inc. of Marietta, Georgia. 84 FR 60451. The complaint alleges violations of section 337 of the Tariff Act of 1930, as amended, 19 U.S.C. 1337 based upon the importation into the United States, the sale for importation, or the sale within the United States after importation of certain argon plasma coagulation system probes, their components, and other argon plasma coagulation system components for use therewith by reason of infringement of certain claims of U.S. Patent Nos. D577,671; 7,311,707; 7,717,911; 9,510,889; and 9,603,653. Id. The Commission's notice of investigation named the following as respondents: (1) Olympus Corporation of Tokyo, Japan; (2) Olympus Corporation of the Americas of Center Valley, Pennsylvania; (3) Olympus America of Center Valley, Pennsylvania; (4) Olympus Surgical Technologies Europe of Hamburg, Republic of Germany; (5) Olympus Winter & lbe GmbH of Hamburg, Republic of Germany; (6) Olympus KeyMed Group Limited of Essex, United Kingdom; (7) KeyMed (Medical & Industrial Equipment) Ltd. of Essex, United Kingdom; (8) Olympus Bolton of Bolton, United Kingdom; (9) Olympus Surgical Technologies Europe | Cardiff of Cardiff, United Kingdom. Id. at 60451-52. The Office of Unfair Import Investigations was also named as a party to this investigation. Id. at 60452.

On January 27, 2020, the private parties filed a joint, unopposed motion seeking to terminate this investigation in part based on withdrawal of the complaint as to named respondents Olympus KeyMed Group Limited, KeyMed (Medical & Industrial Equipment) Ltd., Olympus Bolton, and Olympus Surgical Technologies Europe | Cardiff. The motion also sought to amend the complaint and notice of investigation to add Gyrus Medical Ltd. as a named respondent.

On January 29, 2020, the ALJ issued Order No. 10, the subject ID, granting the motion. The ID finds that the motion complies with the Commission's Rules and that no extraordinary circumstances warrant denying the motion. No petitions for review of the subject ID were filed.

The Commission has determined not to review the subject ID.

The authority for the Commission's determination is contained in section 337 of the Tariff Act of 1930, as amended (19 U.S.C. 1337), and in Part 210 of the Commission's Rules of Practice and Procedure (19 CFR part 210).

By order of the Commission.
Issued: February 25, 2020.
Lisa Barton,
Secretary to the Commission.

[FR Doc. 2020-04109 Filed 2-27-20; 8:45 am]

BILLING CODE 7020-02-P